FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011528-021.

Title: Japan/United States Eastbound Freight Conference.

Parties:

American President Lines, Ltd.,

Hapag-Lloyd Container Linie,

GmbH,

Kawasaki Kisen Kaisha, Ltd.,

Mitsui O.S.K. Lines, Ltd.,

A.P. Moller-Maersk Sealand,

Nippon Yusen Kaisha,

Orient Overseas Container Line Limited,

P&O Nedlloyd B.V.,

P&O Nedlloyd Limited,

Wallenius Wilhelmsen Lines AS.

Synopsis: The proposed agreement amendment extends the suspension of the conference for another six months, through January 31, 2003.

Dated: June 21, 2002.
By Order of the Federal Maritime Commission.
Bryant L. VanBrakle,
Secretary.

[FR Doc. 02-16172 Filed 6-26-02; 8:45 am]

BILLING CODE 6730-01-P